DEPARTMENT OF COMMERCE

National Oceanic and Atmospheric Administration

[RTID 0648-XF284]

Atlantic Highly Migratory Species; Atlantic Highly Migratory Species Southeast Data, Assessment, and Review Workshops Advisory Panel

AGENCY: National Marine Fisheries Service (NMFS), National Oceanic and Atmospheric Administration (NOAA), Commerce.

ACTION: Notice; nominations for shark stock assessment advisory panel.

SUMMARY: NMFS solicits nominations for the Atlantic Highly Migratory Species (HMS) SouthEast Data, Assessment, and Review (SEDAR) Workshops Advisory Panel, also known as the “SEDAR Pool.” The SEDAR Pool is comprised of a group of individuals who, if selected, review data and advise NMFS on the scientific information, data, and models used in stock assessments for oceanic sharks in the Atlantic Ocean, including the Gulf of America and Caribbean Sea. NMFS is seeking nominations for a 5-year term beginning in 2026. NMFS will consider individuals with definable interests in recreational and commercial fishing and related industries, including those from the environmental community, academia, and non-governmental organizations, for membership on the SEDAR Pool.

DATES: Submit nominations on or before January 8, 2026.

ADDRESSES: You may submit nominations and request the SEDAR Pool Statement of Organization, Practices, and Procedures electronically via email to SEDAR.pool@noaa.gov.

Additional information on SEDAR and the SEDAR guidelines can be found at http://sedarweb.org/. The terms of reference for the SEDAR Pool, along with a list of current members, can be found at https://www.fisheries.noaa.gov/atlantic-highly-migratory-species/southeast-data-assessment-and-review-and-atlantic-highly.

FOR FURTHER INFORMATION CONTACT: Karyl Brewster-Geisz or Delisse Ortiz at 301-427-8503.

SUPPLEMENTARY INFORMATION: HMS fisheries (swordfish, sharks, tunas, and billfish) are managed under the 2006 Consolidated HMS Fishery Management Plan (FMP) and its amendments pursuant to the authority of the Magnuson-Stevens Fishery Conservation and Management Act (Magnuson-Stevens Act; 16 U.S.C. 1801 et seq.) and consistent with the Atlantic Tunas Convention Act (16 U.S.C. 971 et seq.). HMS implementing regulations are at 50 CFR part 635.

Background

NMFS established the SEDAR Pool consistent with section 302(g) of the Magnuson-Stevens Act. NMFS may select individuals of the SEDAR Pool to review and advise NMFS on the scientific information, data, and models used in stock assessments for oceanic sharks in the Atlantic Ocean, including the Gulf of America and Caribbean Sea. While NMFS created the SEDAR Pool specifically for consultation on Atlantic shark stock assessments, NMFS may expand consultation to other HMS, as needed.

NMFS may select individuals in the SEDAR Pool to participate in the various data and assessment workshops during the stock assessment process. The primary responsibility of selected individuals is to review and provide advice regarding the scientific information, data, and models that NMFS will use or consider for use in the relevant stock assessment. To ensure that the peer review is unbiased, individuals who participated in a data and/or assessment workshop for a particular stock assessment cannot serve as a peer reviewer for the same stock assessment. However, these individuals may be asked to attend the review workshop to answer specific questions from the reviewers concerning the data and/or assessment workshops. Members of the SEDAR Pool may serve as members of other advisory panels or committees established under section 302(g) concurrent with, or following, their service on the SEDAR Pool.

Procedures and Guidelines

A. Participants

The SEDAR Pool is comprised of individuals that represent the commercial and recreational fishing communities for Atlantic sharks, the environmental community active in the conservation and management of Atlantic sharks, and the academic community that have relevant expertise with sharks and/or stock assessment methodologies for marine fish species. Additionally, individuals who may not necessarily work directly with sharks, but who are involved in fisheries with similar life history, biology, and fishery issues may be part of the SEDAR Pool. Members of the SEDAR Pool must have demonstrated experience in the fisheries, related industries, research, teaching, writing, conservation, or management of marine organisms. The distribution of representation among the interested parties is not defined or limited.

Additional members of the SEDAR Pool may also include representatives from the 5 Atlantic Regional Fishery Management Councils, the 18 Atlantic states, the U.S. Virgin Islands and Puerto Rico, and the relevant interstate commissions (Atlantic States Marine Fisheries Commission and Gulf States Marine Fisheries Commission).

If NMFS requires additional members to ensure a diverse pool of individuals for data or assessment workshops, NMFS may request individuals to become members of the SEDAR Pool outside of the annual nomination period.

SEDAR Pool members serve at the discretion of the Secretary. Not all members will attend each SEDAR workshop. Rather, NMFS will invite certain members to participate at specific stock assessment workshops dependent on their ability to participate, discuss, and offer scientific input and advice regarding the species being assessed.

NMFS is not obligated to fulfill any requests (e.g., requests for an assessment of a certain species) that may be made by the SEDAR Pool or its individual members. Members of the SEDAR Pool who are invited to attend stock assessment workshops will not be compensated for their services, but may be reimbursed for their travel-related expenses to attend such workshops.

B. Nomination Procedures for Appointments to the SEDAR Pool

Member tenure is 5 years. Nominations are sought for terms beginning early in 2026 and expiring in 2031. Nomination packages should include:

1. The name, address, phone number, and email of the applicant or nominee;

2. A description of the applicant's or nominee's interest in Atlantic shark stock assessments or the Atlantic shark fishery;

3. A statement of the applicant's or nominee's background and/or qualifications; and

4. A written commitment that the applicant or nominee shall participate actively and in good faith in the tasks of the SEDAR Pool, as requested.

C. Meeting Schedule

Individual members of the SEDAR Pool meet to participate in stock assessments at the discretion of the Office of Sustainable Fisheries, NMFS. Stock assessment timing, frequency, and relevant species will vary depending on the needs determined by NMFS and SEDAR staff. Beginning in 2026, NMFS plans to assess the sandbar shark stock. Once the sandbar shark assessment is complete, NMFS plans to assess the bull shark stock. All meetings are open for observation by the public.

Dated: December 4, 2025.
Kelly Denit,
Director, Office of Sustainable Fisheries, National Marine Fisheries Service.

[FR Doc. 2025-22309 Filed 12-8-25; 8:45 am]

BILLING CODE 3510-22-P